DEPARTMENT OF THE INTERIOR

National Park Service

Final Environmental Impact Statement for the General Management Plan, Great Falls, Park, VA.

AGENCY: National Park Service, Department of the Interior.

ACTION: Notice of Availability of the Final Environmental Impact Statement for the General Management Plan, Great Falls Park, Virginia.

SUMMARY: Pursuant to the National Environmental Policy Act of 1969, 42 U.S.C. 4332(c), the National Park Service (NPS) announces the availability of the Final Environmental Impact Statement for the General Management Plan, Great Falls Park, Virginia (FEIS/GMP), administered by the George Washington Memorial Parkway (GWMP), a unit of the National Park System.

DATES: The NPS will execute a Record of Decision no sooner than 30 days following publication by the Environmental Protection Agency of the notice of availability of the FEIS/GMP. A 60-day public review period took place on the Draft Environmental Impact Statement for the General Management Plan (DEIS/GMP), Great Falls Park, Virginia, from October 15, to December 15, 2005 (70 FR 47853). Responses to public comment are addressed in the FEIS/GMP.

ADDRESSES: Comments on this FEIS/GMP may be submitted in writing to: Mr. David Vela, Superintendent, George Washington Memorial Parkway, Turkey Run Park, McLean, Virginia 22101; e-mailed to gwmp_superintendent@nps.gov; or submitted via an electronic link at http://parkplanning.nps.gov. To submit comments on http://parkplanning.nps.gov, click on the link “Plans/Documents Open for Comment” and follow that link to “Great Falls Park GMP/EIS.”

The FEIS/GMP will be available for public inspection Monday through Friday, 8 a.m. through 4 p.m., at the GWMP Headquarters, Turkey Run Park, McLean, Virginia 22101, and at the following sites: Great Falls Park, Virginia, Visitor Center, 9200 Old Dominion Drive, McLean, Virginia 22101, (703) 285-2965; Office of the Chief of Planning, National Capital Region, National Park Service, 1100 Ohio Drive SW., Washington, D.C. 20242, (202) 619-7277; Great Falls Library, 9830A Georgetown Pike, Great Falls, Virginia; and at http://www.nps.gov/gwmp/parkmgmt/documents.html.

FOR FURTHER INFORMATION CONTACT: Mr. David Vela, Superintendent, George Washington Memorial Parkway, Turkey Run Park, McLean, Virginia, 22102, (703) 289-2500, or Mr. Walter McDowney, Site Manager, Great Falls Park, Virginia, 9300 Old Dominion Drive, McLean, Virginia 22101, (703) 285-2965.

SUPPLEMENTARY INFORMATION: The FEIS/GMP analyzes two alternatives for managing Great Falls Park, Virginia. The plan is intended to provide a foundation to help park managers guide park programs and set priorities for the management of Great Falls, Park, Virginia, for the next 20 years. The FEIS/GMP evaluates the environmental consequences of the preferred alternative and the status quo alternative on natural and cultural resources, recreational opportunities, traditional park character and visitor experience ,and public health and safety.

Alternative A, “Status Quo/Continuation of Current Conditions,” maintains the status quo in the park, and describes resource conditions where existing practices continue to guide park practices. This alternative does not address resource protection planning needs including a Climbing Management Plan and a Trail Management Plan.

Alternative B (Preferred Alternative [Modified]) is based on an overall goal for the park of balancing opportunities for recreation while protecting sensitive natural and cultural resources. The preferred alternative described in the DEIS/GMP has been modified based on public and agency Comments that were received, as well as additional review by the internal planning team.

All interested individuals, agencies, and organizations are urged to provide comments on the FEIS/GMP. The NPS, in making a final decision regarding this matter, will consider all comments received by the closing date.

Our practice is to make comments, including names and home addresses of respondents, available for public review during regular business hours. Before including your address, phone number, e-mail address, or other personal identifying information in your comment, be advised that your entire comment—including your personal identifying information—may be made public at any time. While one can request in their comments to withhold from pubic review personal identifying information, we cannot guarantee that we will be able to do so. If you wish us to withhold your name and/or address, you must state this prominently at the beginning of your comment. We will make all submissions from organizations or businesses, and from individuals identifying themselves as representatives or officials of organizations or businesses, available for public inspection in their entirety.

Dated: July 17, 2007.
Joseph M. Lawler,
Regional Director, National Capital Region.

[FR Doc. 07-6007 Filed 12-10-07; 8:45 am]

BILLING CODE 4312-52-M